Title 3—

The President

Memorandum of June 12, 2009

Memorandum for the Heads of Executive Departments And Agencies

National Policy for the Oceans, Our Coasts, And the Great Lakes

The oceans, our coasts, and the Great Lakes provide jobs, food, energy resources, ecological services, recreation, and tourism opportunities, and play critical roles in our Nation's transportation, economy, and trade, as well as the global mobility of our Armed Forces and the maintenance of international peace and security. We have a stewardship responsibility to maintain healthy, resilient, and sustainable oceans, coasts, and Great Lakes resources for the benefit of this and future generations.

Yet, the oceans, coasts, and Great Lakes are subject to substantial pressures and face significant environmental challenges. Challenges include water pollution and degraded coastal water quality caused by industrial and commercial activities both onshore and offshore, habitat loss, fishing impacts, invasive species, disease, rising sea levels, and ocean acidification. Oceans both influence and are affected by climate change. They not only affect climate processes but they are also under stress from the impacts of climate change. Renewable energy, shipping, and aquaculture are also expected to place growing demands on ocean and Great Lakes resources. These resources therefore require protection through the numerous Federal, State, and local authorities with responsibility and jurisdiction over the oceans, coasts, and Great Lakes.

To succeed in protecting the oceans, coasts, and Great Lakes, the United States needs to act within a unifying framework under a clear national policy, including a comprehensive, ecosystem-based framework for the longterm conservation and use of our resources.

In order to better meet our Nation's stewardship responsibilities for the oceans, coasts, and Great Lakes, there is established an Interagency Ocean Policy Task Force (Task Force), to be led by the Chair of the Council on Environmental Quality. The Task Force shall be composed of senior policy-level officials from the executive departments, agencies, and offices represented on the Committee on Ocean Policy established by section 3 of Executive Order 13366 of December 17, 2004. This Task Force is not meant to duplicate that structure, but rather is intended to be a temporary entity with the following responsibilities:

1. Within 90 days from the date of this memorandum, the Task Force shall develop recommendations that include:

a. A national policy that ensures the protection, maintenance, and restoration of the health of ocean, coastal, and Great Lakes ecosystems and resources, enhances the sustainability of ocean and coastal economies, preserves our maritime heritage, provides for adaptive management to enhance our understanding of and capacity to respond to climate change, and is coordinated with our national security and foreign policy interests. The recommendations should prioritize upholding our stewardship responsibilities and ensuring accountability for all of our actions affecting ocean, coastal, and Great Lakes resources, and be consistent with international law, including customary international law as reflected in the 1982 United Nations Convention on the Law of the Sea.

b. A United States framework for policy coordination of efforts to improve stewardship of the oceans, our coasts, and the Great Lakes. The Task Force should review the Federal Government's existing policy coordination framework to ensure integration and collaboration across jurisdictional lines in meeting the objectives of a national policy for the oceans, our coasts, and the Great Lakes. This will include coordination with the work of the National Security Council and Homeland Security Council as they formulate and coordinate policy involving national and homeland security, including maritime security. The framework should also address specific recommendations to improve coordination and collaboration among Federal, State, tribal, and local authorities, including regional governance structures.

c. An implementation strategy that identifies and prioritizes a set of objectives the United States should pursue to meet the objectives of a national policy for the oceans, our coasts, and the Great Lakes.

2. Within 180 days from the date of this memorandum, the Task Force shall develop, with appropriate public input, a recommended framework for effective coastal and marine spatial planning. This framework should be a comprehensive, integrated, ecosystem-based approach that addresses conservation, economic activity, user conflict, and sustainable use of ocean, coastal, and Great Lakes resources consistent with international law, including customary international law as reflected in the 1982 United Nations Convention on the Law of the Sea.

3. The Task Force shall terminate upon the completion of its duties.

The Task Force's recommendations and frameworks should be cost effective and improve coordination across Federal agencies.

This memorandum covers matters involving the oceans, the Great Lakes, the coasts of the United States (including its territories and possessions), and related seabed, subsoil, and living and non-living resources.

This memorandum is not intended to, and does not, create any right or benefit, substantive or procedural, enforceable at law or in equity by any party against the United States, its departments, agencies, or entities, its officers, employees, or agents, or any other person. Nothing in this memorandum shall be construed to impair or otherwise affect the functions of the Director of the Office of Management and Budget relating to budgetary, administrative, regulatory, and legislative proposals.

The Chair of the Council on Environmental Quality is hereby authorized and directed to publish this memorandum in the Federal Register.

[FR Doc. E9-14338

Filed 6-16-09; 8:45 am]

Billing code 3125-W9-P